DEPARTMENT OF COMMERCE

International Trade Administration

Notice of Scope Rulings

AGENCY: Import Administration, International Trade Administration, Department of Commerce.

EFFECTIVE DATE: December 1, 2008.

SUMMARY: The Department of Commerce (“Department”) hereby publishes a list of scope rulings completed between July 1, 2008, and September 30, 2008. In conjunction with this list, the Department is also publishing a list of requests for scope rulings and anticircumvention determinations pending as of September 30, 2008. We intend to publish future lists after the close of the next calendar quarter.

FOR FURTHER INFORMATION CONTACT: Juanita H. Chen or Hallie Zink, AD/CVD Operations, China/NME Group, Import Administration, International Trade Administration, U.S. Department of Commerce, 14th Street and Constitution Avenue, N.W., Washington, DC 20230; telephone: 202-482-1904 or 202-482-6907, respectively.

SUPPLEMENTARY INFORMATION:

Background

The Department's regulations provide that the Secretary will publish in the Federal Register a list of scope rulings on a quarterly basis. See 19 C.F.R. 351.225(o). Our most recent notification of scope rulings was published on August 21, 2008. See Notice of Scope Rulings, 73 FR 49418 (August 21, 2008). This current notice covers all scope rulings and anticircumvention determinations completed by Import Administration between July 1, 2008, and September 30, 2008, inclusive, and it also lists any scope or anticircumvention inquiries pending as of September 30, 2008. As described below, subsequent lists will follow after the close of each calendar quarter.

Scope Rulings Completed Between July 1, 2008, and September 30, 2008:

Germany

A-428-801: Ball Bearings and Parts Thereof from Germany

Requestor: Petree & Stoudt Associates, Inc.; certain textile-machinery components (model numbers SW4122, SRH1572, SRH3693.1, FR0394, SW2082, SRH1809.1, SRH3694, FR0613,,SW2577, SRH1809, SRH3694.1, FR0726, SW2578, SRH2129.1, SRH3695.1, FR1081, SW3642.X, SRH2129.2, SRH3717, FR1108, SW3937, SRH2255, SRH3898, FR1235, SW3938, SRH2265, SRH3906, FR1387, SW3939, SRH2266, SRH3913, FR1570, SW3966.X, SRH2820, SRH3953, FR1603, SW3982, SRH3055, SRH3956.1, FR1829, SW3995.1, SRH3064.1, SRH3977, FR1927, SW4021-XXX, SRH3100.1, SRH3983, FR1940, SW4040, SRH3366, SRH4009.1, FR1967, SW4053, SRH3419, SRH4009, FR1969, SW4057, SRH3463, SRH4033, FR2006, SW4058.1, SRH3482, SRH4037, FR2623, SW4067, SRH3489, SRH4038, FR2624, SW4100, SRH3500, SRH4042.1, FR2625, SW4107-X, SRH3510, SRH4042 , FR2626, SW4110-X, SRH3522.1, SRH4050, FR2661-10, SW1683, SRH3522, SRH4051, FR3007, OW4106, SRH3530, SRH4052, FR3499, OW0426, SRH3531, SRH4174, FR3669, OW0647, SRH3531.1, SR2523, FR3686, OW2090, SRH3532, SR2583, FR3718, OW2234, SRH3535, SR3951, FR3916.1, OW2787, SRH3540.1, SR3952, FR3916, OW2818.2, SRH3540, SR3998, FR3935, OW2903, SRH3541, SR4091, FR3964, OW3934, SRH3542.1, SR4114, FR3968, OW3958, SRH3542, SR4124, FR3969, OW3958-10, SRH3543, ZL1678.1, FR3973, OW3959, SRH3545.1, ZL3967, FR3981, OW3959-10, SRH3545, ZL3985, FR4022, OW4068, SRH3552, ZL4005, FR4023, OW4102, SRH3554, ZL4096, FR4045, OW0256, SRH3555, ZL4145, FR4066, SRH0169, SRH3575, ZL4173, FR4080, SRH0170, SRH3601, X3917, FR4097, SRH0233, SRH3603, X3984, FR4099, SRH0744.3, SRH3623, X3984.1, FR4111, SRH1028, SRH3624, X4014, FR4170, SRH1079, SRH3692, X4015, FR4171, SRH1315, SRH3692.1, X4016, SRH1545.3, SRH3693, X4112) are not within the scope of the antidumping duty order; July 16, 2008.

Italy

A-475-703: Granular Polytetrafluoroethylene Resin from Italy

Requestor: Petitioner, E.I. DuPont de Nemours & Company; imports of Polymist[reg] feedstock produced by the respondent Solvay Solexis, Inc. and Solvay Solexis S.p.A. are not within the scope of the antidumping duty order; July 31, 2008.¹

¹ The Department intends to reconsider this decision if we find evidence (through the course of future administrative reviews or otherwise) that Polymist[reg] feedstock is being used to make raw polymer or granular polytetrafluoroethylene.

People's Republic of China

A-570-502: Iron Construction Castings from the People's Republic of China

Requestor: A.Y. McDonald Mfg. Co.; cast iron lids and bases independently sourced from the PRC for its “Arch Pattern” and “Minneapolis Pattern” curb boxes are not within the scope of the antidumping duty order; July 21, 2008.

A-570-504: Petroleum Wax Candles from the People's Republic of China

Requestor: Sourcing International, LLC; its White Rose Bouquet (HM65853W); Six Roses Bouquet (HM6439R); White Poppies (HM469W-Y); Aloe Vera Plant (HM67053-1); Succulent Flower (HM53460); and Flower Pot Series (HM452R, HM6524-1Y, HM9871W-P, and HM458-1P-Y) novelty candles are not within the scope of the antidumping duty order; September 11, 2008.

A-570-504: Petroleum Wax Candles from the People's Republic of China

Requestor: Sourcing International, LLC; its Yellow Bouquet (HM66022Y); Two Red Floating Lilies (HM12009R); Set of Three Flower Pots (HM9604-APU, HM9604-AR, and HM9604-A4-R); Pink Blossoming Rose (HM9866); Circular Pink Gift Box with Pink Flower (HM65548LP); Circular Pink Gift Box with Yellow Flower (HM6550W); Pink Mum Flower in a Flower Pot (HM9601-AL-R); and Yellow Mum Flower in a Flower Pot (HM9601-ALY-R) novelty candles are not within the scope of the antidumping duty order; September 17, 2008.

A-570-803: Heavy Forged Hand Tools With or Without Handles from the People's Republic of China

Requestor: New Buffalo Corporation; its 4 Ton Electric Log Splitter is not within the scope of the antidumping duty order; September 11, 2008.

A-570-827: Cased Pencils from the People's Republic of China

Requestor: The Smencil Company; pencils made from recycled newspaper packaged in plastic cylinders along with scent applicators, in the “Smencils Home Kit” and “Smencils Mini Kit” are within the scope of the antidumping duty order; August 21, 2008.

A-570-875: Non-Malleable Cast Iron Pipe Fittings from the People's Republic of China

Requestor: Taco Inc.; the black cast iron flange, green ductile iron flange and cast iron “Twin Tee” are within the scope of the antidumping duty order; September 18, 2008.

A-570-886: Polyethylene Retail Carrier Bags from the People's Republic of China

Requestor: Best Buy Purchasing LLC; the sealable polyethylene plastic bag (BESTBUY12ADH) is not within the scope of the antidumping order; July 3, 2008.

A-570-886: Polyethylene Retail Carrier Bags from the People's Republic of China

Requestor: Bags on the Net; a certain polyethylene bag (HOLIDAYINN-8410) is within the scope of the antidumping order; July 14, 2008.

A-570-886: Polyethylene Retail Carrier Bags from the People's Republic of China

Requestor: The Builders Depot Inc.; the Against All Odds Tee and Jacket Bags (model #AA01 and model #AA02) are within the scope of the antidumping duty order; September 2, 2008.

A-570-890: Wooden Bedroom Furniture from the People's Republic of China

Requestor: Dutailier Group, Inc.; its convertible cribs (infant crib to toddler bed; model numbers 1230C8, 3500C8, 5400C8, 5500C8, and 6200C8) are not within the scope of the antidumping duty order; July 10, 2008.

A-570-890: Wooden Bedroom Furniture from the People's Republic of China

Requestor: Shermag Inc.; the Three-in-One Cribs (model # 2056-48, 2110-49, and 2045-48) are not within the scope of the antidumping duty order; July 11, 2008.

A-570-891: Hand Trucks from the People's Republic of China

Requestor: Fiskars Brands, Inc.; its Allbarrow cart is not within the scope of the antidumping duty order; August 13, 2008.

A-570-894: Certain Tissue Paper Products from the People's Republic of China

Requestor: Walgreen Co.; the tissue paper in its gift bag sets, consisting of one gift bag, one crinkle bow, and one to six sheets of tissue paper, is within the scope of the antidumping duty order; September 19, 2008.

A-570-894: Certain Tissue Paper Products from the People's Republic of China

Requestor: QVC Corporation; the tissue paper in its gift wrap kits, each containing different amounts and combinations of some or all of the following components: gift bags, gift tins, gift boxes, bows, wrapping paper, tissue paper, gift tags, gift cards, gift card pouches, ribbon and stickers, is within the scope of the antidumping duty order; September 19, 2008.

A-570-909: Steel Nails from the People's Republic of China

Requestor: Trackers, Inc.; its color coded steel nails are within the scope of the antidumping duty order; September 15, 2008.

Anticircumvention Determinations Completed Between July 1, 2008, and September 30, 2008:

A-570-894: Certain Tissue Paper Products from the People's Republic of China

Requestor: Seaman Paper Company of Massachusetts, Inc.; imports of tissue paper from Vietnam made out of jumbo rolls of tissue paper from the PRC are circumventing the antidumping duty order; September 19, 2008.

Scope Inquiries Terminated Between July 1, 2008, and September 30, 2008:

None.

Anticircumvention Inquiries Terminated Between July 1, 2008, and September 30, 2008:

None.

Scope Inquiries Pending as of September 30, 2008:

Germany

A-428-825: Stainless Steel Sheet and Strip in Coils from Germany

Requestor: Almetals, Inc.; whether certain TriClad nickel-clad stainless steel sheet and strip in coils is within the scope of the antidumping duty order; requested May 1, 2008.

Japan

A-588-046: Polychloroprene Rubber from Japan

Requestor: DuPont Performance Elastomers L.L.C; whether solid polychloroprenes that are dipolymers of chloroprene and methacrylic acid are within the scope of the antidumping duty order; requested January 23, 2008; initiated/preliminary ruling March 8, 2008.

A-588-046: Polychloroprene Rubber from Japan

Requestor: DuPont Performance Elastomers L.L.C; whether aqueous dispersions of 2-chlorobutadiene-1,3 homopolymers, where the polymer content of the dispersion is between 55 weight percent and 61 weight percent and the dispersed homopolymer contains less that 10 weight percent of a tetrahydrofuran-insoluble fraction, are within the scope of the antidumping duty order; requested August 4, 2008; initiated/preliminary ruling September 18, 2008.

People's Republic of China

A-570-504: Petroleum Wax Candles from the People's Republic of China

Requestor: Sourcing International, LLC; whether its Red Rose Stem (HM65975W-G); White and Yellow Poppies (HM65895R); Water Lotus (HM52305LB); Spotted Orchid (HM12066); and Bouquet of Pom Pom (HM65833W-G) novelty candles are within the scope of the antidumping duty order; requested September 24, 2008.

A-570-827: Cased Pencils from the People's Republic of China

Requestor: Walgreen Co.; whether the “ArtSkills Stencil Kit” is within the scope of the antidumping duty order; requested May 25, 2007; preliminary ruling August 21, 2008.

A-570-827: Cased Pencils from the People's Republic of China

Requestor: Walgreen Co.; whether the “ArtSkills Draw & Sketch Kit” is within the scope of the antidumping duty order; requested May 25, 2007.

A-570-864: Pure Magnesium in Granular Form from the People's Republic of China

Requestor: ESM Group Inc.; whether atomized ingots are within the scope of the antidumping duty order; original scope ruling rescinded and vacated April 18, 2007; initiated April 18, 2007; Preliminary Ruling August 27, 2008.

A-570-866: Folding Gift Boxes from the People's Republic of China

Requestor: Footstar; whether certain four boxes for business cards and forms (length x width: 5 x 3.5; 7 x 3.5; 12.125 x 3.5; and 11 x 8.5) are within the scope of the antidumping duty order; requested April 26, 2007.

A-570-866: Folding Gift Boxes from the People's Republic of China

Requestor: Hallmark Cards, Inc.; whether its “FunZip” gift presentation is within the scope of the antidumping duty order; requested June 1, 2007.

A-570-882: Refined Brown Aluminum Oxide from the People's Republic of China

Requestor: 3M Company; whether semi-friable aluminum oxide and heat-treated aluminum oxide are within the scope of the antidumping duty order; requested September 19, 2006; initiated January 17, 2007.

A-570-886: Polyethylene Retail Carrier Bags from the People's Republic of China

Requestor: Majestic International; whether certain polyethylene gift bags (UPC codes starting with 8-51603- and ending with: 00002-3, 00004-7, 00140-2, 00141-9, 00142-6, 00041-2, 00040-5, 00052-8, 00059-7, 00066-5, 00068-9, 00071-9, 00072-6, 00075-7, 00076-4, 00092-4, 00093-1, 00094-8, 00098-6, 00131-0, 00132-7, 00133-4, 00144-0, 00145-7, 00152-5, 00153-2, 00155-6, 00156-3, 00160-0, 00163-1, 00165-5, 00166-2, 00175-4, 00176-1, 00181-5, 00183-9, 00226-3, 00230-0, 00231-7, 00246-1, 00251-5, 00252-2, 00253-9, 00254-6, 00255-3, 00256-0, 00257-7, 00259-1, 00260-7, 00262-1, 00263-8, 00300-0, 00301-7, 00302-4, 00303-1, 00305-5, 00306-2, 00307-9, 00308-6, 00309-3, 00350-5, 00351-2, 00352-9, 00353-6, 00354-3, 00355-0, 00356-7, 00357-4, 00358-1) are within the scope of the antidumping duty order; requested June 2, 2007; initiated July 22, 2008.

A-570-886: Polyethylene Retail Carrier Bags from the People's Republic of China

Requestor: Rayton Produce Packaging Inc.; whether its promotional bag (model # F-OPPAPEJZLG) is within the scope of the antidumping duty order; requested November 20, 2007.

A-570-890: Wooden Bedroom Furniture from the People's Republic of China

Requestor: Armel Enterprises, Inc.; whether certain children's playroom and accent furniture are within the scope of the antidumping duty order; requested September 24, 2007.

A-570-890: Wooden Bedroom Furniture from the People's Republic of China

Requestor: Target Corporation; whether the Shabby Chic secretary desk and mirror are within the scope of the antidumping duty order; requested November 30, 2007.

A-570-890: Wooden Bedroom Furniture from the People's Republic of China

Requestor: Zinus, Inc. and Zinus (Xiamen) Inc.; whether its Smartbox mattress support and box spring are within the scope of the antidumping duty order; requested January 22, 2008.

A-570-890: Wooden Bedroom Furniture from the People's Republic of China

Requestor: Acme Furniture Industry, Inc.; whether its mattress supports (item nos. 2833, 2834, 2835, 2836 and 2837) are within the scope of the antidumping duty order; requested February 26, 2008.

A-570-890: Wooden Bedroom Furniture from the People's Republic of China

Requestor: Stanley Furniture Company, Inc.; whether certain convertible cribs are within the scope of the antidumping duty order; requested August 8, 2008.

A-570-891: Hand Trucks from the People's Republic of China

Requestor: Northern Tool & Equipment Co.; whether a high-axle torch cart (item #164771) is within the scope of the antidumping duty order; requested March 27, 2007.

A-570-891: Hand Trucks from the People's Republic of China

Requestor: Eastman Outdoors, Inc.; whether its deer cart (model # 9930) is within the scope of the antidumping duty order; requested October 17, 2007.

A-570-891: Hand Trucks from the People's Republic of China

Requestor: American Lawn Mower Company; whether its Collect-It Garden Waste Remover is within the scope of the antidumping duty order; requested January 24, 2008.

A-570-891: Hand Trucks from the People's Republic of China

Requestor: Corporate Express Inc.; whether its luggage carts, model numbers CEB31210 and CEB31490, are within the scope of the antidumping duty order; requested January 31, 2008.

A-570-891: Hand Trucks from the People's Republic of China

Requestor: Conair Corporation; whether its LadderKart, a hand truck with an integral folding step-ladder, is within the scope of the antidumping duty order; requested September 4, 2008.

A-570-891: Hand Trucks from the People's Republic of China

Requestor: Central Purchasing, LLC.; whether its welding cart (model number 65939), is within the scope of the antidumping duty order; requested August 22, 2008.

A-570-891: Hand Trucks from the People's Republic of China

Requestor: Riesenthel Accessories; whether its Carrycruiser shopping cart is within the scope of the antidumping duty order; requested September 2, 2008.

A-570-891: Hand Trucks from the People's Republic of China

Requestor: Ardisam, Inc.; whether its Yukon Tracks Sportsman's Cart (model number AV125), is within the scope of the antidumping duty order; requested September 11, 2008.

A-570-898: Chlorinated Isocyanurates from the People's Republic of China

Requestor: BioLab, Inc.; whether chlorinated isocyanurates originating in the People's Republic of China, that are packaged, tableted, blended with additives, or otherwise further processed in Vietnam before entering the U.S., are within the scope of the antidumping duty order; requested August 15, 2007; initiated March 21, 2008.

A-570-899: Artist Canvas from the People's Republic of China

Requestor: C2F, Inc.; whether framed artist canvas in two forms (i.e., 65% polyester, 35% cotton bulk or 100% cotton bulk) woven in the Republic of Korea and cut and framed in the People's Republic of China are within the scope of the antidumping duty order; requested September 4, 2008.

A-570-901: Lined Paper Products from the People's Republic of China

Requestor: Lakeshore Learning Materials; whether certain printed educational materials, product numbers RR973 and RR974 (Reader's Book Log); GG185 and GG186 (Reader's Response Notebook); GG181 and GG182 (The Writer's Notebook); RR673 and RR674 (My Word Journal); AA185 and AA186 (Mi Diario de Palabras); RR630 and RR631 (Draw & Write Journal); AA786 and AA787 (My First Draw & Write Journal); AA181 and AA182 (My Picture Word Journal); GG324 and GG325 (Writing Prompts Journal); EE441 and EE442 (Daily Math Practice Journal Grades 1 - 3); EE443 and EE444 (Daily Math Practice Journal Grades 4 - 6); EE651 and EE652 (Daily Language Practice, Grades 1-3); EE653 and EE654 (Daily Language Practice Journal, Grades 4 - 6), are within the scope of the antidumping duty order; requested December 7, 2006; initiated May 7, 2007.

A-570-922 and C-570-923: Raw Flexible Magnets from the People's Republic of China

Requestor: Target Corporation; whether certain decorative retail magnets (for model numbers starting with DPCI05319- and ending with: 2052, 2058, 2064, 2065, 2066, 2067, 2068, 2069, 2070, 2071, 2072, 2073, 2074, 2075, 2076, 2077, 2078, 2079; and model number DPCI053230152) are within the scope of the antidumping duty order; requested September 9, 2008.

Multiple Countries

A-423-808 and C-423-809: Stainless Steel Plate in Coils from Belgium; A-475-822: Stainless Steel Plate in Coils from Italy; A-580-831: Stainless Steel Plate in Coils from South Korea; A-583-830: Stainless Steel Plate in Coils from Taiwan; A-791-805 and C-791-806: Stainless Steel Plate in Coils from South Africa

Requestor: Ugine & ALZ Belgium N.V.; whether stainless steel products with an actual thickness of less than 4.75 mm, regardless of nominal thickness, are within the scope of the antidumping and countervailing duty orders; requested June 8, 2007; initiated July 23, 2007.

Anticircumvention Rulings Pending as of September 30, 2008:

People's Republic of China

A-570-849: Cut-to-Length Carbon Steel Plate from the People's Republic of China

Requestor: Nucor Corporation, SSAB N.A.D., Evraz Claymont Steel, Evraz Oregon Steel Mills, and ArcelorMittal USA Inc.; whether adding metallurgically and economically insignificant amounts of boron is a minor alteration that circumvents the antidumping duty order; requested August 13, 2008.

A-570-868: Folding Metal Tables and Chairs from the People's Republic of China

Requestor: Meco Corporation; whether the common leg table (a folding metal table affixed with cross bars that enable the legs to fold in pairs) produced in the PRC is a minor alteration that circumvents the antidumping duty order; requested October 31, 2005; initiated June 1, 2006.

A-570-894: Certain Tissue Paper Products from the People's Republic of China

Requestor: Seaman Paper Company of Massachusetts, Inc.; whether imports of tissue paper from Thailand made out of jumbo rolls and sheets of tissue paper from the PRC are circumventing the antidumping duty order; requested September 10, 2008.

Interested parties are invited to comment on the completeness of this list of pending scope and anticircumvention inquiries. Any comments should be submitted to the Deputy Assistant Secretary for AD/CVD Operations, Import Administration, International Trade Administration, 14th Street and Constitution Avenue, N.W., APO/Dockets Unit, Room 1870, Washington, DC 20230.

This notice is published in accordance with 19 CFR 351.225(o).

Dated: November 20, 2008.
Stephen J. Claeys,
Deputy Assistant Secretary for Antidumping and Countervailing Duty Operations.

[FR Doc. E8-28459 Filed 11-28-08; 8:45 am]

BILLING CODE 3510-DS-S